FEDERAL MARITIME COMMISSION

[Docket No. 25-12]

Dollar General Logistics, LLC, Complainant v. Yang Ming Marine Transport Corp., Respondent.

Served: July 1, 2025

Notice of Filing of Complaint and Assignment

Notice is given that a complaint has been filed with the Federal Maritime Commission (the “Commission”) by Dollar General Logistics, LLC (the “Complainant”) against Yang Ming Marine Transport Corp. (the “Respondent”). Complainant states that the Commission has subject-matter jurisdiction over the complaint pursuant to the Shipping Act of 1984, as amended, 46 U.S.C. 40101 et seq., and personal jurisdiction over Respondent as an ocean common carrier, as defined in 46 U.S.C. 40102(18), that has entered into a service contract, as defined in 46 U.S.C. 40102(21), with Complainant.

Complainant is a corporation existing under the laws of the state of Tennessee with its principal place of business located in Goodlettsville, Tennessee.

Complainant identifies Respondent as a company existing under the laws of Tawain with its principal place of business in Keelung City, Taiwan, whose agent in the United States is Yang Ming (America) Corp., a company existing under the laws of the state of New York with its principal place of business in Newark, New Jersey.

Complainant alleges that Respondent violated 46 U.S.C. 41102(c); 41104(a)(2) and (a)(10). Complainant alleges these violations arose from a practice of systematically failing to meet service commitments, causing Complainant to pursue alternate transportation arrangements for cargo at an increased price, and other acts or omissions of the Respondent.

An answer to the complaint must be filed with the Commission within 25 days after the date of service.

The full text of the complaint can be found in the Commission's electronic Reading Room at https://www2.fmc.gov/readingroom/proceeding/25-12/. This proceeding has been assigned to the Office of Administrative Law Judges. The initial decision of the presiding judge shall be issued by July 1, 2026, and the final decision of the Commission shall be issued by January 15, 2027.

(Authority: 46 U.S.C. 41301; 46 CFR 502.61(c).)

David Eng,
Secretary.

[FR Doc. 2025-12523 Filed 7-3-25; 8:45 am]

BILLING CODE 6730-02-P